DEPARTMENT OF DEFENSE

Department of the Army; Corps of Engineers

Intent to Prepare a Draft Environmental Impact Statement (DEIS) for the Hudson River at Athens, New York Navigation Channel Project: Feasibility Phase.

AGENCY: U.S. Army Corps of Engineers, DoD.

ACTION: Notice of intent.

SUMMARY: The New York District of the U.S. Army Corps of Engineers is preparing a Draft Environmental Impact Statement (DEIS) to ascertain compliance with and to lead to the production of a National Environmental Policy Act (NEPA) document in accordance with the President's Council of Environmental Quality (CEQ) Rules and Regulations, as defined and amended in 40 Code Federal Regulations (CFR) Parts 1500-1508, Corps' Principals and Guidelines as defined in Engineering Regulation (ER) 1105-2-100 and (ER) 1105-1-200 and other applicable Federal and State environmental laws for the proposed Hudson River at Athens, New York Federal Navigation Project. This project is an element of the Hudson River, New York to Waterford, New York Project.

The study area includes the Hudson River Main Channel from the Hudson City Light to Athens Harbor, Athens, New York.

FOR FURTHER INFORMATION CONTACT: To request additional information, please contact Jenine Gallo, Project Biologist at (212) 264-0912, Planning Division, Corps of Engineers, New York District, 26 Federal Plaza, New York, New York 10278-0090.

SUPPLEMENTARY INFORMATION: This study is authorized by Section 110 of the Energy and Water Appropriations Act 1997 which reads:

“The Secretary of the Army is authorized and directed to modify the project for the Hudson River, New York, New York City to Waterford, authorized by the Act of June 25, 1910 (Pub. L. 264, 61st Congress, 36 Stat. 635), to include design and construction of a 300-foot wide channel to a depth of 24 feet MLW (mean low water), extending from the existing federal channel in the vicinity of the Hudson City Light to the north dock at Union Street, Athens, New York.”

1. Description of the Previously Authorized Project: The Hudson River at Athens Federal Navigation Project area is located on the west bank of the Hudson River in Athens Township, Greene County, New York. The purpose of the project is to construct a new navigation channel as a spur off the existing Federal channel. The new channel would serve two terminals in the Port of Athens. Currently, vessels of the classes that typically call at Athens cannot reach the terminals there while fully loaded because the depth of the channel is insufficient. The Project will allow these vessels to reach Athens at low tide (MLW) while fully loaded.

2. Two types of environmental analysis will be conducted; (1) of impacts associated with channel deepening and widening and (2) of impacts[TH1] associated with placement of dredged material at a site specified by the project sponsor.

3. Public scoping meeting(s) are expected to be scheduled in Spring 2001. Meeting(s) will be held in Athens, New York at locations not yet determined. Results from the public scoping meeting(s) with the District and Federal, state and local agency coordination will be addressed in the DEIS. Parties interested in receiving notices of public scoping meeting(s) should contact Jenine Gallo at the above address.

4. Federal agencies interested in participating as a Cooperating Agency are requested to submit a letter of intent to Colonel William H. Pearce, District Engineer at the above address.

5. Estimated Date of DEIS availability: January 2002.

Joseph Vietri,
Deputy Chief, Planning Division.

[FR Doc. 01-5117 Filed 3-1-01; 8:45 am]

BILLING CODE 3710-06-M